SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-0454, E-mail address: OPLM.RCO@ssa.gov.

I. The information collections below are pending at SSA. SSA will submit them to OMB within 60 days from the date of this notice. To be sure we consider your comments, we must receive them no later than August 23, 2010. Individuals can obtain copies of the collection instruments by calling the SSA Reports Clearance Officer at 410-965-8783 or by writing to the above email address.

1. Medical Report (General)—20 CFR 404.1512-404.1515, 416.912-416.915—0960-0052. Using the state Disability Determination Services (DDS) as agents, SSA uses Form SSA-3826-F4 to make accurate determinations in disability claims cases. SSA uses the information from this form to determine the claimant's physical and mental status prior to making a disability determination, and to document the disability claims folder with the medical evidence. The form provides disability adjudicators and reviewers with a narrative record and history of the alleged disability and with the objective medical findings necessary to make a disability determination. SSA uses the medical evidence from this form to determine if an individual's impairment meets the severity and duration requirements for disability benefits. The respondents are members of the medical community, including individual physicians, hospital doctors, medical records librarians, and other medical sources.

Type of Request: Revision of an OMB-approved information collection.

Number of Respondents: 150,000.

Frequency of Response: 1.

Average Burden Per Response: 30 minutes.

Estimated Annual Burden: 75,000 hours.

2. Letter to Custodian of Birth Records/Letter to Custodian of School Records—20 CFR 404.704, 404.716, 416.802, and 422.107—0960-0693. SSA prepares Form SSA-L106 and SSA-L706 for individuals who need help in obtaining evidence of their age in connection with Social Security number (SSN) card applications and claims for benefits. SSA uses the SSA-L706 to determine the existence of primary evidence of age for SSN applicants. SSA also uses both letters to verify with the issuing entity, when necessary, the authenticity of the record submitted by the SSN applicant or claimant. The respondents are schools, state and local bureaus of vital statistics, and religious entities.

Type of Request: Revision of an OMB-approved information collection.

Form | Number of respondents | Frequency of response | Average burden per response (minutes) | Estimated annual burden (hours)
SSA-L106 | 3,600 | 1 | 10 | 600
SSA-L706 | 3,600 | 1 | 10 | 600
Totals | 7,200 |  |  | 1,200

II. SSA has submitted the information collection listed below to OMB for clearance. Your comments on the information collection would be most useful if OMB and SSA receive them within 30 days from the date of this publication. To be sure we consider your comments, we must receive them no later than July 22, 2010. You can obtain a copy of the OMB clearance package by calling the SSA Reports Clearance Officer at 410-965-8783 or by writing to the above email address.

Disability Report-Appeal—20 CFR 404.1512, 416.912, 404.916(c), 416.1416(c), 405 Subpart C, 422.140—0960-0144. SSA requires disability claimants who are appealing an unfavorable disability determination to complete Form SSA-3441-BK. This form allows claimants to disclose any changes to their disability or resources that might influence SSA's unfavorable determination. SSA may use the information to: (1) Reconsider and review an initial disability determination; (2) review a continuing disability; and (3) evaluate a request for a hearing. This information assists the state DDSs and administrative law judges (ALJ) in: (1) Preparing for the appeals and hearings; and (2) issuing a determination or decision on an individual's entitlement (initial or continuing) to disability benefits. Respondents are individuals who appeal denial, reduction, or cessation of Social Security Disability Income and Supplemental Security Income payments, or who are requesting a hearing before an ALJ.

*Note: This is a correction notice. SSA inadvertently published incorrect burden information for this collection at 75 FR 27036 on May 13, 2010. We provide the correct burden information below.

Type of Request: Revision of an OMB-approved information collection.

Collection method | Number of respondents | Frequency of response | Average burden per response: | Estimated annual burden hours
SSA-3441 (Paper Form) | 12,604 | 1 | 45 minutes | 9,453
Electronic Disability Collect System (EDCS) | 843,090 | 1 | 45 minutes | 632,318
I3441 (Internet Form) | 417,268 | 1 | 30 minutes | 208,634
Totals | 1,272,962 |  |  | 850,405

Dated: June 17, 2010.
Liz Davidson,
Director, Center for Reports Clearance, Social Security Administration.

[FR Doc. 2010-15045 Filed 6-21-10; 8:45 am]

BILLING CODE 4191-02-P